DEPARTMENT OF JUSTICE

Drug Enforcement Administration

[Docket No. DEA-750]

Bulk Manufacturer of Controlled Substances Application: Janssen Pharmaceuticals Inc.

AGENCY: Drug Enforcement Administration, Justice.

ACTION: Notice of application.

SUMMARY: Janssen Pharmaceuticals Inc., has applied to be registered as a bulk manufacturer of basic class(es) of controlled substance(s). Refer to Supplemental Information listed below for further drug information.

DATES: Registered bulk manufacturers of the affected basic class(es), and applicants therefore, may file written comments on or objections to the issuance of the proposed registration on or before February 1, 2021. Such persons may also file a written request for a hearing on the application on or before February 1, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on November 11, 2020, Janssen Pharmaceuticals Inc., 1440 Olympic Drive, Athens, Georgia, 30601-1645, applied to be registered as an bulk manufacturer of the following basic class(es) of controlled substance(s):

Controlled substance | Drug code | Schedule
Methylphenidate | 1724 | II
Hydromorphone | 9150 | II
Hydrocodone | 9193 | II
Oripavine | 9330 | II
Thebaine | 9333 | II
Tapentadol | 9780 | II

The company plans to manufacture the above-listed controlled substances in bulk for distribution to its customers. No other activities for these drug codes are authorized for this registration.

William T. McDermott,
Assistant Administrator.

[FR Doc. 2020-26651 Filed 12-2-20; 8:45 am]

BILLING CODE 4410-09-P